DEPARTMENT OF HOMELAND SECURITY

Coast Guard

[Docket No. USCG-2019-0862]

Port Access Route Study: Approaches to the Chesapeake Bay, Virginia

AGENCY: Coast Guard, DHS.

ACTION: Notice of availability.

SUMMARY: The Coast Guard announces the completion of the Port Access Route Study for the Approaches to the Chesapeake Bay, Virginia. The study was conducted to determine whether to recommend changes to enhance navigational safety by examining existing shipping routes and waterway uses as offshore energy development matures and to evaluate the need for establishing or changing existing vessel routing measures. This notice summarizes the study's recommendation.

FOR FURTHER INFORMATION CONTACT: For information about this document call or email Matthew Creelman, Marine Planner at Fifth Coast Guard District, telephone (757) 398-6225, email, Matthew.K.Creelman2@uscg.mil.

SUPPLEMENTARY INFORMATION:

I. Table of Abbreviations

BOEM—Bureau of Ocean Energy Management, U.S. Department of the Interior

DELMARVA—Delaware, Maryland, Virginia peninsula (Eastern Shore)

FR—Federal Register

NEPA—National Environmental Policy Act

PARS—Port Access Route Study

TSS—Traffic Separation Scheme

USCG—United States Coast Guard, Department of Homeland Security

II. Background and Purpose

We conducted this Port Access Route Study (PARS) following a Notice of Study, published in the Federal Register on November 27, 2019 (84 FR 65398). There was a 60-day public comment period, as well as other outreach efforts identified in Section C of the study. During the comment period USCG received 11 comments in response to the notice.

On June 16, 2021, we published a Notice of Availability of the draft study in the Federal Register (86 FR 32052) with a 30-day public comment period with a request for public comment.

During the 30-day public comment period, the USCG received eleven comments in response to our draft study, as well as other outreach identified in Section G of the study.

All comments and supporting documents are available in the public docket and can be viewed at https://www.regulations.gov. To view documents, in the “Search” box insert “USCG-2019-0862” and click “Search.” Then select “Supporting & Related Material” in the Document Type column.

Comments have been addressed and summarized in section III.

The goal of the study is to enhance navigational safety in the study area by examining existing shipping routes and waterway uses. We have undertaken measures to (1) determine what, if any, navigational safety concerns exist with vessel transits in the study area; (2) determine whether to recommend changes to enhance navigational safety by examining existing shipping routes and all other waterway uses; and (3) reconcile any other proposed changes with other reasonable waterway uses.

III. Study Recommendations

The recommendations of this PARS are based on the data analysis for historical vessel traffic patterns, comments received to the docket, public outreach, and consultation with other government agencies and stakeholders. Recommendations in the draft study include:

1. An expansion of the precautionary area between the two Traffic Separation Schemes to preserve a naturally occurring deep draft slough for future increases in vessel size.

2. Modifications to shipping safety fairways as proposed in the Atlantic Coast Shipping Safety Fairways rulemaking, to include:

a. Re-orienting the “Chesapeake Bay to Delaware Bay” connector fairway to allow space for an offshore anchorage in the approach to the Delaware Bay.

b. Re-orienting the “Cape Charles to Montauk Point” fairway to route closer to the DELMARVA peninsula.

c. Add one connector fairway from the offshore “St. Lucie to New York” fairway and the Chesapeake Bay TSS, south of the Commercial Virginia Offshore Wind project area, to facilitate safe transit of commercial international vessels around future offshore energy installations.

The final study considered several comments from port and industry stakeholders regarding larger vessels calling on the Port of Virginia in the future, suggesting an additional fairway connector from the Atlantic Coast PARS would be required. These comments were well supported and resulted in changes to the final recommendations.

IV. Summary of Changes

Section E was modified to address comments on fishing activity within the study area and now contains calculations for recommended safe transit widths based on fishing vessel transit data. Section F changes resulted from public comments requesting addition of a connector fairway north of the Commercial Virginia Offshore Wind lease area. The comments supported the need to preserve a deep draft route to support and promote navigation safety of larger vessels expected to call more frequently on the Port of Virginia in the future. All changes to the final study are indicated by italicized type.

V. Future Actions

The USCG will continue to serve as a NEPA cooperating agency to BOEM's environmental review of any proposed project. In that role, the USCG will evaluate the navigational safety risks of each proposal on a case-by-case basis.

The final study will be submitted to the Office of Navigation Systems (CG-NAV-2) for consideration and possible inclusion as part of a future Notice of Proposed Rulemaking for Shipping Safety Fairways along the Atlantic Coast.

The final study is available for viewing and download from the Federal Register docket at http://www.regulations.gov or the USCG Navigation Center website at https://www.navcen.uscg.gov/?pageName=PARSReports.

Dated: October 19, 2021.
Richard E. Batson,
Captain, U.S. Coast Guard, Acting Commander, Fifth Coast Guard District.

[FR Doc. 2021-23103 Filed 10-21-21; 8:45 am]

BILLING CODE 9110-04-P